INTERNATIONAL BOUNDARY AND WATER COMMISSION, UNITED STATES AND MEXICO

Notice of Availability of Draft Environmental Impact Statement and Notice of Public Meetings for the El Paso-Las Cruces Regional Sustainable Water Project, Sierra and Dona Ana Counties, NM and El Paso County, TX

Correction

In notice document 00-8207 beginning on page 17679 in the issue of Tuesday, April 4, 2000, make the following correction:

On page 17680, in the first column, the fourth full paragraph should not be preceded with a bullet “•”. The text should be an indented paragraph.

[FR Doc. C0-8207 Filed 5-12-00; 8:45 am]

BILLING CODE 1505-01-D